NATIONAL SCIENCE FOUNDATION

Sunshine Act Meeting

The National Science Board's Committee on External Engagement hereby gives notice of the scheduling of a teleconference for the transaction of National Science Board business as follows:

TIME AND DATE: Tuesday, August 3, 2021, from 11:00-11:45 a.m. p.m. EDT.

PLACE: This meeting will be held by teleconference through the National Science Foundation.

STATUS: Open.

MATTERS TO BE CONSIDERED: The agenda of the teleconference is: Opening remarks and approval of minutes; highlights of Tennessee Roundtable; rollout of S&E Indicators Elementary and Secondary STEM education report; discuss S&E Indicators 2022 engagement plan; and discuss Strategic Engagement Tool.

CONTACT PERSON FOR MORE INFORMATION: Point of contact for this meeting is: Nadine Lymn, nlymn@nsf.gov, 703/292-7000. To listen to this teleconference, members of the public must send an email to nationalsciencebrd@nsf.gov at least 24 hours prior to the teleconference. The National Science Board Office will send requesters a toll-free dial-in number. Meeting information and updates may be found at the National Science Board website at www.nsf.gov/nsb.

Chris Blair,
Executive Assistant to the National Science Board Office.

[FR Doc. 2021-16111 Filed 7-23-21; 4:15 pm]

BILLING CODE 7555-01-P